DEPARTMENT OF THE INTERIOR

Office of the Secretary

Natural Resource Damage Assessment and Restoration Program Office; Notice of Natural Resource Damage Assessment and Restoration Advisory Committee Meeting

ACTION: Notice; FACA Committee meeting announcement.

SUMMARY: As required by the Federal Advisory Committee Act, Public Law 92-463, the Department of the Interior, Natural Resource Damage Assessment and Restoration Program Office gives notice of the fourth meeting of the Department's Natural Resource Damage Assessment and Restoration Advisory Committee. The Advisory Committee will meet at the U.S. Department of the Interior, South Building Auditorium, 1951 Constitution Avenue, NW., Washington, DC 20240 from 8:30 a.m. to 5 p.m. on November 29 and November 30, 2006. Members of the public are invited to attend the Committee Meeting to listen to the committee proceedings and to provide public input.

Public Input: Any member of the public interested in providing public input at the Committee Meeting should contact Mr. Steve Glomb, whose contact information is listed under the FOR FURTHER INFORMATION CONTACT section of this notice. Each individual providing oral input is requested to limit those comments to three minutes. This time frame may be adjusted to accommodate all those who would like to speak. Requests to be added to the public speaker list must be received in writing (letter, e-mail, or fax) by noon eastern standard time on November 20, 2006. Anyone wishing to submit written comments should provide a copy of those comments to Mr. Glomb in the following formats: One hard copy with original signature, and one electronic copy via e-mail (acceptable file formats are: Adobe Acrobat, WordPerfect, Word, or Rich Text files) by noon eastern standard time on November 20, 2006.

Document Availability: Interested individuals may view the draft agenda for the meeting online at http://restoration.doi.gov/faca or may request the draft agenda from Mr. Glomb. In preparation for this meeting of the Advisory Committee, the Committee and the public can find helpful background information at the Restoration Program Web site http://restoration.doi.gov. The site provides a good introduction to the program for those who are relatively new to the damage assessment and restoration arena and a useful reference for seasoned practitioners and policy leaders. Links to the statutory and regulatory framework for the program are found at http://restoration.doi.gov/laws.htm. DOI Program policies are found at http://restoration.doi.gov/policy.htm.

Agenda for Meeting

The agenda will cover the following principal subjects:

—Presentation and discussion on cultural services provided by natural resources.

—Discussion of subcommittee reports.

—Formal public input (if any).

—Committee agreement on each subcommittee scope and plan.

—Develop schedule for next Committee meeting.

We estimate that each subcommittee report, discussion, and associated public input will take approximately three to four hours. However, the timeframes will remain flexible. If a subcommittee report and discussion requires less time, the committee will move directly on to the next topic.

Meeting Access: Individuals requiring special accommodation at this meeting must contact Mr. Steve Glomb (see contact information below) by noon eastern standard time on November 15, 2006, so that appropriate arrangements can be made.

DATES: November 29, 2006, from 8:30 a.m. to 5 p.m. (open to the public). November 30, 2006, from 8:30 a.m. to 5 p.m. (open to the public).

ADDRESSES: Auditorium, U.S Department of the Interior, South Building, 1951 Constitution Avenue, NW., Washington, DC 20240.

All individuals attending the Committee Meeting will be required to present photo identification to security officers to gain access to the South Interior Building.

FOR FURTHER INFORMATION CONTACT: Steve Glomb, U.S. Department of the Interior, Natural Resource Damage Assessment and Restoration Program, Mail Stop MIB 4449, 1849 C Street, NW., Washington, DC 20240; phone 202-208-4863; fax 202-208-2681; or steve_glomb@ios.doi.gov.

Dated: November 3, 2006.
Frank M. DeLuise,
Designated Federal Officer, DOI Natural Resource Damage Assessment and Restoration Advisory Committee.

[FR Doc. E6-18871 Filed 11-7-06; 8:45 am]

BILLING CODE 6820-PE-P